DEPARTMENT OF TRANSPORTATION

Federal Aviation Administration

Noise Compatibility Program for San Diego International Airport, San Diego County, California

AGENCY: Federal Aviation Administration, DOT.

ACTION: Notice of approval of noise compatibility program.

SUMMARY: The Federal Aviation Administration (FAA) announces its findings on the noise compatibility program submitted by the San Diego County Regional Airport Authority. These findings are made in recognition of the description of Federal and nonfederal responsibilities. On September 1, 2022, the FAA determined that the noise exposure maps submitted by the San Diego County Regional Airport Authority were in compliance with applicable requirements. On January 11, 2023, the FAA approved the San Diego International Airport noise compatibility program. Most of the recommendations of the program were approved.

DATES: The effective date of the FAA's approval of the San Diego International Airport noise compatibility program is January 11, 2023.

FOR FURTHER INFORMATION CONTACT: David B. Kessler, AICP, Regional Environmental Protection Specialist, 777 South Aviation Boulevard, El Segundo, California 90045, Telephone: 424-405-7315. Documents reflecting this FAA action may be reviewed at this same location.

SUPPLEMENTARY INFORMATION: This notice announces FAA's approval of the noise compatibility program (NCP) for San Diego International Airport, effective on January 11, 2023. Per United States Code section 47504 (49 U.S.C. 47504) and Title 14, Code of the Federal Regulations (CFR) part 150, an airport sponsor who previously submitted a noise exposure map (NEM) may submit to the FAA, a noise compatibility program which sets forth the measures taken or proposed by the airport sponsor for the reduction of existing non-compatible land uses and prevention of additional non-compatible land uses within the area covered by the NEMs. As required by 49 U.S.C. 47504, such programs must be developed in consultation with interested and affected parties including local communities, government agencies, airport users, and the FAA. The FAA does not substitute its judgment for that of the airport sponsor with respect to which measures should be recommended for action. The FAA approval or disapproval of an airports recommendations in their noise compatibility program are made in accordance with the requirements and standards pursuant to 49 U.S.C. 47504 and 14 CFR part 150, which is limited to the following determinations:

a. The noise compatibility program was developed in accordance with the provisions and procedures of 14 CFR 150.23;

b. Program measures are reasonably consistent with achieving the goals of reducing existing non-compatible land uses around the airport and preventing the introduction of additional non-compatible land uses;

c. Program measures would not create an undue burden on interstate or foreign commerce, unjustly discriminate against types or classes of aeronautical uses, violate the terms of airport grant agreements, or intrude into areas preempted by the Federal Government; and

d. Program measures relating to the use of flight procedures can be implemented within the period covered by the program without derogating safety, adversely affecting the efficient use and management of the navigable airspace and air traffic control systems, or adversely affecting other powers and responsibilities of the Administrator prescribed by law.

Specific limitations with respect to FAA's approval of an airport noise compatibility program are delineated in 14 CFR 150.5. Approval is not a determination concerning the acceptability of land uses under Federal, state, or local law. Approval does not by itself constitute an FAA implementing action. A request for Federal action or approval to implement specific noise compatibility measures may be required, and an FAA decision on the request may require an environmental assessment of the proposed action. Approval does not constitute a commitment by the FAA to financially assist in the implementation of the program nor a determination that all measures covered by the NCP are eligible for grant-in-aid funding from the FAA. Where federal funding is sought, requests must be submitted to the FAA Los Angeles Airports District Office in El Segundo, California.

On May 6, 2022, the San Diego County Regional Airport Authority submitted the noise exposure maps, descriptions, and other documentation produced during the noise compatibility planning study conducted from October 22, 2018 through May 6, 2022 to the FAA. The FAA determined the NEMs for San Diego International Airport complied with 14 CFR part 150, effective on September 1, 2022. This determination was published in the Federal Register on September 8, 2022, (87 FR 55074).

The San Diego International Airport study contains a proposed noise compatibility program comprised of actions designed for phased implementation by airport management and adjacent jurisdictions from May 6, 2022 to the year 2026. It was requested that the FAA evaluate and approve this material as a noise compatibility program as described in 49 U.S.C 47504. The FAA began its review of the program on September 1, 2022, and was required by a provision of 49 U.S.C 47504 to approve or disapprove the program within 180 days (other than the use of new or modified flight procedures for noise control). Failure to approve or disapprove such program within the 180-day period shall be deemed to be an approval of such program.

The submitted program contained 17 proposed actions for noise mitigation, noise abatement, land use planning, and program management. The FAA completed its review and determined that the procedural and substantive requirements of the 49 U.S.C. 47504 and part 150 have been satisfied. The overall program, therefore, was approved by the FAA effective January 11, 2023.

Outright approval was granted for 16 of the 17 specific program elements. The proposed Facility Management measure to utilize Ground Based Augmentation System (GBAS) was disapproved because the NCP did not demonstrate the measure is reasonably consistent with achieving the goals of reducing existing non-compatible land uses around the airport and preventing the introduction of additional non-compatible land uses. The following measures were approved: Noise Abatement Measure: Voluntary Noise Abatement Departure Profile. Remedial Land Use Measures: Sound Attenuation of Eligible Non-Residential Noise Sensitive Buildings; Sound Attenuation of Eligible Residential Units.

Land Use Planning Measures: Prevent New Non-Compatible Land Use Development; San Diego County Airport Land Use Commission; Support Compatible Planning Process.

Program Management Measures: Continue Aircraft Noise Office and Program Manager; continue use of the Airport Noise and Operations Monitoring System; Portable Noise Monitoring; continue the Fly Quiet Program; continue the Airport Noise Advisory Committee; continue to Communicate Noise Issues with Airlines; continue to Administer Airport Use Regulations; continue to author and submit California Quarterly Noise Reports; Update Noise Exposure Maps; and Update the Noise Compatibility Program.

These determinations are set forth in detail in a Record of Approval signed by the Western-Pacific Regional Airports Division Director on January 11, 2023. The Record of Approval, as well as other evaluation materials and the documents comprising the submittal, are available for review at the FAA office listed above and at the administrative offices of the San Diego County Regional Airport Authority. The Record of Approval also will be available on-line at http://www.faa.gov/airports/environmental/airport_noise/part_150/states/ and at San Diego County Regional Airport Authority's website, https://www.san.org/Aircraft-Noise/FAR-Part-150.

Issued in El Segundo, California, on January 26, 2023.
Mark A. McClardy,
Director, Airports, Division, Western-Pacific Region, AWP-600.

[FR Doc. 2023-02019 Filed 1-31-23; 8:45 am]

BILLING CODE 4910-13-P